DEPARTMENT OF THE INTERIOR

Bureau of Ocean Energy Management

[Docket No. BOEM-2021-0036]

Notice of Availability of a Joint Record of Decision for the Final Environment Impact Statement for the Vineyard Wind 1 Offshore Wind Energy Project Construction and Operations Plan

AGENCY: Bureau of Ocean Energy Management (BOEM), Interior; New England District, U.S. Army Corps of Engineers (USACE), Defense; National Marine Fisheries Service (NMFS), Commerce.

ACTION: Notice of availability (NOA); record of decision (ROD).

SUMMARY: BOEM announces the availability of the joint ROD on the final environmental impact statement (FEIS) for the construction and operations plan (COP) submitted by Vineyard Wind LLC (Vineyard Wind). The joint ROD includes the decisions of the Department of the Interior (DOI), USACE, and NMFS regarding the Vineyard Wind COP. The USACE has adopted the FEIS to support its permitting actions under the River and Harbors Act of 1899 (RHA) and the Clean Water Act (CWA). NMFS has adopted the FEIS to support its decision to issue an incidental take authorization under the Marine Mammal Protection Act. The joint ROD concludes the National Environmental Policy Act (NEPA) process for each agency and is available with associated information on BOEM's website at https://www.boem.gov/Vineyard-Wind/.

FOR FURTHER INFORMATION CONTACT:

BOEM—Michelle Morin, BOEM, Office of Renewable Energy Programs, 45600 Woodland Road, Sterling, Virginia 20166, (703) 787-1722 or michelle.morin@boem.gov.

NOAA—Candace Nachman, NOAA Fisheries Office of Policy, (301) 427-8031 or candace.nachman@noaa.gov.

USACE—Christine Jacek, Regulatory Division, U.S. Army Corps of Engineers, 696 Virginia Road, Concord, Massachusetts 01742-2751, (978) 318-8026, or christine.m.jacek@usace.army.mil.

SUPPLEMENTARY INFORMATION: Vineyard Wind seeks to construct, operate, maintain, and eventually decommission an 800-megawatt wind energy facility on the Outer Continental Shelf offshore Massachusetts (the Project). The Project and associated export cables would be developed within the range of design parameters outlined in the Vineyard Wind COP, subject to applicable mitigation measures. The Project is located approximately 14 miles southeast of Martha's Vineyard and a similar distance southwest of Nantucket. The COP proposed installing up to 100 wind turbine generators (WTGs) and one or two offshore substations or electrical service platforms. The WTGs would be located in water depths ranging from approximately 37 to 49 meters (121 to 161 feet). The COP proposed one export cable landfall near the town of Barnstable, Massachusetts, and onshore construction and staging at the New Bedford Marine Commerce Terminal.

After carefully considering the FEIS alternatives, including comments from the public on the draft and supplemental EISs, DOI has decided to approve the COP for Vineyard Wind using a combination of alternatives C (No Surface Occupancy in the Northernmost Portion of the Project Area Alternative), D2 (East-West and One-Nautical-Mile Turbine Layout Alternative), and E (Reduced Project Size Alternative). BOEM identified this combination as its preferred alternative in the FEIS (Preferred Alternative). By selecting the Preferred Alternative, DOI will allow 84 or fewer WTGs to be installed in 100 of the 106 locations proposed by Vineyard Wind and will prohibit the installation of WTGs in 6 locations in the northernmost portion of the project area. This decision will also require that the WTG layout be arranged in an east-west/north-south orientation, with a minimum spacing of 1 nautical mile between WTGs, consistent with the U.S. Coast Guard's recommendations in the final “The Areas Offshore of Massachusetts and Rhode Island Port Access Route Study.” Vineyard Wind may choose where to place the 84 or fewer WTGs on the remaining 100 locations available and must proceed within the range of the design parameters outlined in the Vineyard Wind COP.

DOI's selection of a combination of alternatives C, D2, and E as its Preferred Alternative meets the purpose and need as identified in the Vineyard Wind FEIS. The full text of the mitigation, monitoring, and reporting requirements that will be included in the COP approval are available in the joint ROD, which is available on BOEM's website at: https://www.boem.gov/Vineyard-Wind/.

NMFS has decided to adopt BOEM's FEIS and issue a final incidental harassment authorization (IHA) to Vineyard Wind. NMFS' final decision to issue the requested IHA is documented in a separate decision memorandum prepared in accordance with internal NMFS policy and procedures. The IHA authorizes the incidental take of marine mammals while prescribing the permissible methods of incidental take as well as mitigation and monitoring requirements, including those mandated by the biological opinion issued to complete the formal Endangered Species Act section 7 consultation process. A notice of issuance of the final IHA will be published in the Federal Register.

The USACE has decided to adopt BOEM's FEIS and issue a Department of the Army (DA) permit pursuant to section 404 of the CWA (33 U.S.C. 1344) and section 10 of the RHA (33 U.S.C. 403). The DA permit authorizes Vineyard Wind to discharge fill below the high tide line of waters of the United States and to perform work and place structures below the mean high-water mark of navigable waters of the United States. Activities under the DA permit are being authorized using a combination of alternatives C, D2, and E, as described in the Vineyard Wind FEIS. This alternative incorporates all practicable avoidance and minimization measures.

Authority: This NOA is published in accordance with 40 CFR parts 1500-1508, implementing the National Environmental Policy Act of 1969, as amended (42 U.S.C. 4321 et seq.).

William Yancey Brown,
Chief Environmental Officer, Bureau of Ocean Energy Management.

[FR Doc. 2021-10192 Filed 5-13-21; 8:45 am]

BILLING CODE 4310-MR-P